Proclamation 9265 of April 30, 2015

Law Day, U.S.A., 2015

By the President of the United States of America

A Proclamation

Throughout the world, the rule of law is central to the promise of a safe, free, and just society. Respect for and adherence to the rule of law is the premise upon which the United States was founded, and it has been a cornerstone of my Presidency. America's commitment to this fundamental principle sustains our democracy—it guides our progress, helps to ensure all people receive fair treatment, and protects our Government of, by, and for the people.

This Law Day, we celebrate a milestone in the extraordinary history of the rule of law by marking the 800th anniversary of the Magna Carta. Centuries ago, when kings, emperors, and warlords reigned over much of the world, it was this extraordinary document—agreed to by the King of England in 1215—that first spelled out the rights and liberties of man. The ideals of the Magna Carta inspired America's forefathers to define and protect many of the rights expressed in our founding documents, which we continue to cherish today.

The Magna Carta has also provided a framework for constitutional democracies throughout the world, and my Administration is committed to supporting good governance based upon the rule of law. Around the globe, we support strong civil institutions, independent judiciaries, and open government—because the rule of force must give way to the rule of law. For more than two centuries, we have witnessed these values drive opportunity and prosperity here in the United States, and as President, I will continue to work to bolster our systems of justice and advance efforts that do the same overseas.

America is and always has been a nation of laws. Our institutions of justice are vital to securing the promise of our country, and they are bound up with the values and beliefs that have united peoples through the ages. The United States and our citizens are inextricably linked to all those around the world doing the hard work of strengthening the rule of law—joined in common purpose by our mutual interest in building freer, fairer, more just societies.

NOW, THEREFORE, I, BARACK OBAMA, President of the United States of America, in accordance with Public Law 87-20, as amended, do hereby proclaim May 1, 2015, as Law Day, U.S.A. I call upon all Americans to acknowledge the importance of our Nation's legal and judicial systems with appropriate ceremonies and activities, and to display the flag of the United States in support of this national observance.

IN WITNESS WHEREOF, I have hereunto set my hand this thirtieth day of April, in the year of our Lord two thousand fifteen, and of the Independence of the United States of America the two hundred and thirty-ninth.

[FR Doc. 2015-10671

Filed 5-4-15; 8:45 am]

Billing code 3295-F5